DEPARTMENT OF HEALTH AND HUMAN SERVICES

Administration on Aging

Agency Information Collection Activities: Proposed Collection; Comment Request; Second National Outcome Measures Surveys of Older Americans Act (OAA) Clients

AGENCY: Administration on Aging, HHS.

ACTION: Notice.

SUMMARY: The Administration on Aging (AoA), Department of Health and Human Services, provides an opportunity for comment on the following proposal for the collection of information in compliance with the Paperwork Reduction Act (PRA; Pub. L. 96-511): Federal agencies are required to publish notice in the Federal Register concerning each proposed collection of information, including each proposed extension of an existing collection of information, and to allow 60 days for public comment in response to the notice. This notice solicits comments on the information collection requirements relating to Second National Outcome Measures Surveys of Older Americans Act (OAA) Clients, and Coordinated Survey of State and Area Agencies on Aging.

DATES: Submit written or electronic comments on the collection of information by February 3, 2003.

ADDRESSES: Submit electronic comments on the collection of information to: David.Bunoski@aoa.gov.

Submit written comments on the collection of information to: Office of Planning and Evaluation, Administration on Aging, Washington, DC 20201.

FOR FURTHER INFORMATION CONTACT: David Bunoski, Administration on Aging, Washington, DC 20201 telephone: (202) 357-3514.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

Type of Request: New information collection.

Use: Consumer assessment data will be collected in this second set of surveys to initiate national program outcome assessment consistent with the requirements of the Government Performance and Results Act and the Older Americans Act.

Frequency: One-time.

Respondents: Elderly individuals who have received selected services under Title III of the Older Americans Act and state and area agencies on aging.

Estimated Number of Responses: 5,000 for consumer surveys; 700 for agency surveys.

Total Estimated Burden Hours: 4,000 for consumer surveys; 2,100 for agency surveys.

Additional Information or Comments: The Administration on Aging plans to submit to the Office of Management and Budget for approval the Second National Outcome Measures Surveys of Older Americans Act (OAA) Clients, pursuant to requirements set forth by congressional statute. Through a contract with Westat, Inc., AoA will draw samples of individuals served through Area Agencies on Aging across the country for the purpose of obtaining OAA program service assessments from these individuals. The surveys will utilize information collection instruments and methods developed and tested by experts in the field of gerontology and by State and local entities that administer OAA programs. The surveys will include assessments from among the following service categories: nutrition, transportation, caregiver support, home-care, and information and assistance. AoA is also supporting the efforts of four states to obtain valid statewide data compatible with the national data.

AoA is also proposing for Westat, Inc., to conduct a survey of all state and area agencies on aging to collect information about how those agencies operate the programs for which they are responsible. We will be asking specifically about coordination between social services and health services; organizational and administrative arrangements; coordination of services at the state and local level; and coordination of, and expenditure levels among, different funding sources administered by the agencies.

Date: November 29, 2002.
Josefina G. Carbonell,
Assistant Secretary for Aging.

[FR Doc. 02-30740 Filed 12-3-02; 8:45 am]

BILLING CODE 4154-01-P